DEPARTMENT OF TRANSPORTATION

Pipeline and Hazardous Materials Safety Administration

[Docket: PHMSA-07-0056]

Request for Public Comments and Office of Management and Budget (OMB) Approval of Existing Information Collections

AGENCY: Pipeline and Hazardous Materials Safety Administration (PHMSA), DOT.

ACTION: Notice and request for comments.

SUMMARY: This notice requests public participation in the OMB approval process for the renewal of five existing information collections; Recordkeeping and Accident Reporting for Hazardous Liquid Pipeline; Recordkeeping for Liquefied Natural Gas Facilities; Recordkeeping for Natural Gas Pipelines, Gas and Hazardous Liquid Pipeline Safety Program Certification; and Pipeline Integrity Management in High Consequence Areas for Operators with Less than 500 miles of Hazardous Liquid Pipeline. PHMSA is requesting OMB approval for renewal of these information collections under the Paperwork Reduction Act of 1995 (PRA). With this notice as required by the PRA, PHMSA invites the public to submit comments over the next 60 days on whether the existing information collection is necessary for the proper performance of the functions of the Department.

DATES: Submit comments on or before April 28, 2008.

ADDRESSES: Comments may be submitted in the following ways:

• E-Gov Web Site: http://www.regulations.gov. This site allows the public to enter comments on any Federal Register notice issued by any agency.

• Fax: 1-202-493-2251.

• Mail: DOT Docket Operations Facility (M-30), U.S. Department of Transportation, West Building, 1200 New Jersey Avenue, SE., Washington, DC 20590.

• Hand Delivery: DOT Docket Operations Facility, U.S. Department of Transportation, West Building, Room W12-140, 1200 New Jersey Avenue, SE., Washington, DC 20590 between 9 a.m. and 5 p.m., Monday through Friday, except Federal holidays.

Instructions: Identify the docket number, PHMSA-2007-0056, at the beginning of your comments. If you mail your comments we request that you send two copies. To receive confirmation that PHMSA received your comments, include a self-addressed stamped postcard.

Note: All comments are electronically posted without changes or edits, including any personal information provided.

Privacy Act Statement

Anyone can search the electronic form of all comments received in response to any of our dockets by the name of the individual submitting the comment (or signing the comment, if submitted on behalf of an association, business, labor union, etc.). DOT's complete Privacy Act Statement published in the Federal Register, April 11, 2000 (65 FR 19477).

FOR FURTHER INFORMATION CONTACT: LE Herrick, at 202-366-5523, or by e-mail at le.herrick@dot.gov.

SUPPLEMENTARY INFORMATION: Section 1320.8(d), Title 5, Code of Federal Regulations requires PHMSA to provide interested members of the public and affected agencies an opportunity to comment on information collection and recordkeeping requests. This notice identifies information collection requests that PHMSA will be submitting to OMB for renewal and extension. These information collections are contained in 49 CFR Parts 190, 192, 193 and 195. PHMSA will request a three-year term of approval for each information collection activity.

1. Title of information collection: Pipeline Safety: Recordkeeping and Accident Reporting for Hazardous Liquid Pipeline.

Former title: Transportation of Hazardous Liquids by Pipeline: Recordkeeping and Accident Reporting.

OMB control number: 2137-0047.

Summary of the information collection activity: Operators of Hazardous liquid pipeline facilities are required under 49 CFR Part 195 to maintain records, make reports, and provide information to PHMSA and state pipeline safety offices concerning the operations of the facility. The information is used to assist federal and state pipeline safety inspectors who audit this information when they conduct compliance inspections and to provide a background for accident investigations.

Frequency of collection: Annually and on occasion.

Estimated total respondents: 200.

Estimated total annual burden on respondents: 51,011 hours.

2. Title of Information Collection: Pipeline Safety: Recordkeeping for Liquefied Natural Gas Facilities.

Former title: Recordkeeping Requirements for Liquefied Natural Gas Facilities.

OMB control number: 2137-0048.

Summary of the information collection activity: Operators of Liquefied Natural Gas facilities are required under 49 CFR Part 193 to maintain records, and provide information to PHMSA and state safety offices concerning the operations of the facility. The information is used to assist federal and state pipeline safety inspectors who audit this information when they conduct compliance inspections and to provide a background for incident investigations.

Frequency of collection: On occasion.

Estimated Total Respondents: 101.

Estimated Total Annual Burden on Respondents: 12120 hours.

3. Title of Information Collection: Pipeline Safety: Recordkeeping for Gas Pipelines.

Former title: Recordkeeping for Natural Gas Pipeline Operators.

OMB control number: 2137-0049.

Summary of the information collection activity: Operators of gas pipeline facilities are required under 49 CFR part 192 to maintain records, make reports, and provide information to PHMSA and state pipeline safety offices concerning the operations of the facility. The information is used to assist federal and state pipeline safety inspectors who audit this information when they conduct compliance inspections and to provide a background for incident investigations.

Frequency of collection: On occasion.

Estimated Total Respondents: 22300.

Estimated Total Annual Burden on Respondents: 940,454 hours.

4. Title of Information Collection: Pipeline Safety: Gas and Hazardous Liquid Pipeline Safety Program Certifications.

Former title: Gas Pipeline Safety Program Certification and Hazardous Liquid Pipeline Safety Program Certification.

OMB control number: 2137-0584.

Summary of the information collection activity: A participating state must maintain records in order to demonstrate the state is properly monitoring the operations of pipelines operators in their states. The state submits a certificate to PHMSA annually verifying compliance. PHMSA uses the information to evaluate a state's eligibility for federal grants.

Frequency of collection: Annually.

Estimated Total Respondents: 67.

Estimated Total Annual Burden on Respondents: 3820 hours.

5. Title of Information Collection: Pipeline Safety: Integrity Management in High Consequence Areas for Operators with Less than 500 miles of Hazardous Liquid Pipeline.

Former title: Pipeline Integrity Management in High Consequence Areas for Operators with Less than 500 miles of Hazardous Liquid Pipeline.

OMB control number: 2137-0605.

Summary of the information collection activity: Certain areas are particularly environmentally sensitive from hazardous liquid pipeline failures. These areas are called high consequence areas (HCAs). The pipeline integrity management regulations in 49 CFR part 195 requires operators with less than 500 miles of pipeline to have a program to provide direct integrity testing and evaluation of hazardous liquid pipelines in HCAs. The information is used to assist federal and state pipeline safety inspectors who audit this information when they conduct compliance inspections and to provide a background for incident investigations in HCAs.

Frequency of collection: Annually and on occasion.

Estimated Total Respondents: 132.

Estimated Total Annual Burden on Respondents: 267,960 hours.

Issued in Washington, DC on February 21, 2008.
Barbara Betsock,
Acting Director of Regulation.

[FR Doc. E8-3681 Filed 2-26-08; 8:45 am]

BILLING CODE 4910-60-P